DEPARTMENT OF THE TREASURY

Treasury Public Engagement Pages

AGENCY: Departmental Offices, Treasury.

ACTION: Notice and request for comment.

SUMMARY: The Department of the Treasury (Treasury) is issuing this notice to inform the public and solicit comments about a new method it is using to collect information and opinions posted on social media platforms. Relying on Treasury-generated “hashtags” and other social media identifiers, Treasury is aggregating public posts relating to Treasury activities and missions from third-party social media Web sites. Treasury is collecting and, in some cases, republishing this material to facilitate public engagement and awareness of Treasury and bureau initiatives. In this manner, social media will enable Treasury to interact with the public in effective and meaningful ways; encourage the broad exchange of and centrally locate a variety of viewpoints on proposed and existing Treasury missions; and educate the general public about evolving Treasury initiatives.

DATES: Effective Date: June 24, 2015. Comment due date: July 24, 2015. This initiative will launch upon publication of this notice. Treasury may make adjustments to the program based upon timely comments received.

ADDRESSES: Comments should be sent to: Office of Chief Information Officer, Department of the Treasury, 1500 Pennsylvania Avenue NW., Washington, DC 20220. Treasury will make such comments available for public inspection and copying in the Treasury Library, Room 1020, Treasury Annex, 1500 Pennsylvania Avenue NW., Washington, DC 20220, on official business days between the hours of 10:00 a.m. and 5:00 p.m. Eastern Time. You must make an appointment to inspect comments by telephoning (202) 622-0990 (not a toll free number). You may also submit comments through the federal rulemaking portal at http://www.regulations.gov (follow the instructions for submitting comments). All comments received, including attachments and other supporting materials, are subject to public disclosure. You should submit only information that you wish to make available publicly.

FOR FURTHER INFORMATION CONTACT: For questions and privacy issues please contact: Helen Goff Foster (202) 622-0790, Deputy Assistant Secretary for Privacy, Transparency, and Records, Department of the Treasury, 1500 Pennsylvania Ave. NW., Washington, DC 20220.

SUPPLEMENTARY INFORMATION:

The Purpose of the Collection

Treasury seeks to interact with the public on matters related to specific Treasury missions, initiatives, activities and functions. In this regard, Treasury anticipates that it will be helpful to collect information and opinions posted on social media platforms or submitted to Treasury directly on Treasury.gov. Treasury will collect and, in some cases, republish this material to facilitate public engagement and awareness of Treasury and bureau initiatives. In this manner, social media will enable Treasury to interact with the public in effective and meaningful ways; encourage the broad exchange of and centrally locate a variety of viewpoints on proposed and existing Treasury missions; and educate the general public about evolving Treasury initiatives.

Information That Will Be Collected: This collection will include information, opinions, and other material gathered in two ways: (1) Information publicly posted by individuals on third-party social media Web sites in connection with Treasury-generated hashtags or other Treasury-generated social media message identifiers; (2) information submitted directly to Treasury on web forms posted on Treasury.gov. In both instances, the information collected may also include identifying information relating to the individuals posting or submitting the material, to the extent such identifying information is provided or posted.

Types of Information Collected

The following types of information are collected to the extent the individual either provides the information through Treasury.gov or publicly publishes this information on third-party social media sites using Treasury-generated social media identifiers: Full name; username; email address; content of publicly-posted text; videos; photos; graphics; and interviews.

How the Information Is Used

Treasury collects, maintains, and sometimes publicly displays information that individuals choose to: (1) Publicly post on third-party social media Web sites using Treasury-generated social media “hashtags” or other social media identifiers related to Treasury missions, activities, initiatives, or operations; or (2) submit directly through web forms on Treasury.gov.

With Whom the Information Is Shared

Treasury may make all or portions of the information collected publicly available on its Web site(s). Treasury may also share the information collected with the National Archives and Records Administration (NARA) to ensure compliance with Federal Records Act requirements, or in response to NARA Office of Government Information Services requests relating to Treasury compliance with the Freedom of Information Act. Treasury may also share the information with contractors for the purpose of compiling, organizing, analyzing, programming, or otherwise refining the information to accomplish an agency function. Treasury may also share the information with a Congressional office in response to an inquiry made at the request of the individual to whom the information pertains. If Treasury suspects or has confirmed that the security or confidentiality of information posted on its Web site(s) (whether maintained by the Department or another agency or entity that relies on the information) has been compromised, Treasury will share the information with appropriate agencies, entities, and persons when reasonably necessary to assist in connection with the Department's efforts to respond to the suspected or confirmed compromise and prevent, minimize, or remedy such harm. Treasury may also share the information with the Department of Justice for investigation, legal advice and/or representation.

Safeguards

Information collected by Treasury is maintained in a secure information system to ensure its integrity and availability. Records in this system are protected in accordance with applicable rules and policies, including all applicable Treasury automated systems security and access policies. Strict controls have been imposed to minimize risk of compromising the information being stored. Access to the information system and privileges to modify or remove information from the system is limited to those individuals who have a need to know the information for the performance of their official duties and who have appropriate clearances or permissions.

How Long the Information Is Retained

Information collected as part of this initiative, to the extent deemed to be Treasury records, is maintained in accordance with Records Control Schedule N1-056-03-001, Item 10. Such records are designated as temporary records and are destroyed after one year or when no longer needed for business, whichever is later.

Authority for Collecting this Information: Executive Order 13571, Streamlining Service Delivery and Improving Customer Service, April 27, 2011.

Dated: June 17, 2015.
Helen Goff Foster,
Deputy Assistant Secretary for Privacy, Transparency, and Records.

[FR Doc. 2015-15372 Filed 6-23-15; 8:45 am]

BILLING CODE 4810-25-P